FEDERAL COMMUNICATIONS COMMISSION

[DA 19-55]

Federal Advisory Committee Act; Disability Advisory Committee

AGENCY: Federal Communications Commission.

ACTION: Notice of renewal of the Disability Advisory Committee's charter.

SUMMARY: The Federal Communications Commission (Commission) hereby announces that the charter of the Disability Advisory Committee (hereinafter Committee) has been renewed pursuant to the Federal Advisory Committee Act (FACA).

FOR FURTHER INFORMATION CONTACT: Will Schell, Designated Federal Officer, Federal Communications Commission, Consumer and Governmental Affairs Bureau, (202) 418-0767, or email: Will.Schell@fcc.gov.

SUPPLEMENTARY INFORMATION: The General Services Administration approved renewal of the charter of the Committee pursuant to provisions of the FACA, (5 U.S.C. App. 2). The charter became effective December 21, 2018 and provides the Committee with authorization to operate for two years from the effective date.

The mission of the DAC is to make recommendations to the Commission on the full range of disability access topics specified by the Commission and to facilitate the participation of consumers with disabilities in proceedings before the Commission. In addition, this Committee is intended to provide an effective means for stakeholders with interests in this area to exchange ideas, which will in turn enhance the Commission's ability to effectively address disability access issues. The purpose of this committee is to provide the Commission with input that will help to ensure that consumers with disabilities have equal and affordable access to communications products and services, and to facilitate consumer involvement and input by people with disabilities into all activities of the Commission.

Issues to be considered by the Committee may include, but are not limited to, Communications Access: Telecommunications Relay Services (TRS) (Section 225 of the Communications Act); Telecommunications Services and Equipment (Section 255 of the Communications Act); Advanced Communications Services and Equipment (Sections 716 and 718 of the Communications Act); Hearing Aid Compatibility (Section 710 of the Communications Act); Access to Telephone Emergency Services (9-1-1) (Section 106 of the Twenty-First Century Communications and Video Accessibility Act); National Deaf-Blind Equipment Distribution Program (Section 719 of the Communications Act); Video Programming: Video Description (Sections 303(u), (z), and 713 of the Communications Act); Closed Captioning (Sections 303(u), (z), and 713 of the Communications Act); Access to Televised Emergency Information (Sections 303(u), (z), and 713 of the Communications Act); Accessible User Interfaces on Video Programming Apparatus/Access to Program Guides and Menus Provided by Navigation Devices (Sections 303(aa) and (bb) of the Communications Act).

The Committee is organized under, and operates in accordance with, the provisions of the FACA. The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two years from the date that this renewal is effective (on or before December 21, 2020), or earlier upon the completion of its work as determined by the Chairman, unless its charter is renewed prior to the termination date.

During the Committee's third term, it is anticipated that the Committee will meet in Washington, DC for at least three (3) one-day meetings. The first meeting date and agenda topics will be described in a Public Notice issued and published in the Federal Register at least fifteen (15) days prior to the first meeting date.

In addition, as needed, working groups or subcommittees (ad hoc or steering) will be established to facilitate the Committee's work between meetings of the full Committee. All meetings, including those of working groups and subcommittees, will be fully accessible to individuals with disabilities.

Federal Communications Commission.
Suzy Rosen Singleton,
Chief, Disability Rights Office, Consumer and Governmental Affairs Bureau.

[FR Doc. 2019-02780 Filed 2-19-19; 8:45 am]

BILLING CODE 6712-01-P